DEPARTMENT OF THE INTERIOR

Bureau of Land Management

[LLNV930000 L14300000.ET0000 241A; NVN-62752; MO# 4500011865; 10-08807; TAS: 14X1109]

Public Land Order No. 7755; Withdrawal of Public Lands and Reserved Federal Minerals for the Ash Meadows National Wildlife Refuge, Nevada

AGENCY: Bureau of Land Management, Interior.

ACTION: Public Land Order.

SUMMARY: This order withdraws approximately 9,460.66 acres of public lands from settlement, sale, location, and entry under the general land laws, including the mining laws, and 5,570.02 acres of reserved Federal minerals from location under the mining laws, subject to valid existing rights, for a period of 20 years to protect the habitat of 12 endangered species. This order also transfers jurisdiction of the public lands within the Ash Meadows National Wildlife Refuge boundary to the U.S. Fish and Wildlife Service.

DATES: Effective Date: December 13, 2010.

FOR FURTHER INFORMATION CONTACT: Jacqueline Gratton, Bureau of Land Management, Nevada State Office, P.O. Box 12000, Reno, NV 89520, 775-861-6532.

SUPPLEMENTARY INFORMATION: The public lands and the reserved Federal minerals described in this order are within the Ash Meadows National Wildlife Refuge boundary. Non-Federal lands within the Refuge boundary are not affected by this withdrawal. This action would protect Federal lands and minerals from surface disturbance, mining and other uses that could interfere with efforts to protect and implement recovery efforts for 12 Federally-listed threatened or endangered plant and animal species found only at Ash Meadows. The lands and Federal minerals would remain open to the mineral leasing and mineral material laws.

Order

By virtue of the authority vested in the Secretary of the Interior by Section 204 of the Federal Land Policy and Management Act of 1976, 43 U.S.C. 1714, it is ordered as follows:

1. Subject to valid existing rights, the public lands described in (a) below are hereby withdrawn from settlement, sale, location, and entry under the general land laws, including the mining laws (30 U.S.C. Ch. 2), and jurisdiction is transferred to the U.S. Fish and Wildlife Service for administration under the National Wildlife Refuge System Administration Act of 1966, as amended (16 U.S.C. 668dd-668ee). The reserved Federal minerals underlying the lands described in (b) below are hereby withdrawn from location and entry under the mining laws (30 U.S.C. Ch. 2).

Mount Diablo Meridian

(a) Public Lands

T. 17 S., R. 50 E.,

Sec. 9, lots 7 and 8;

Sec. 10, lot 12;

Sec. 14, lot 11;

Sec. 15, lots 1 to 4, inclusive;

Sec. 17, E½NE¼;

Sec. 19, lot 14;

Sec. 21, lots 5 and 6;

Sec. 22, lots 1 to 5, inclusive, W½SE¼, and SE¼SE¼;

Sec. 23, lots 3 and 4;

Sec. 26, S½;

Sec. 27;

Sec. 28, E½NE¼;

Sec. 29, NE¼NW¼;

Sec. 32, NE¼NE¼, S½NE¼, and N½SE¼;

Sec. 34, NE¼;

Sec. 35, NE¼, N½NW¼, SW¼NW¼, W½SW¼, E½SE¼, and NW¼SE¼;

Sec. 36, W½ and SE¼SE¼.

T. 17 S., R. 51 E.,

Sec. 31, lot 4, SE¼SW¼, and SW¼SE¼;

Sec. 32, S½NW¼.

T. 18 S., R. 50 E.,

Sec. 1, lots 1 to 4, inclusive;

Sec. 2, lots 1 and 2, S½NE¼, and SE¼;

Sec. 3, SW¼SW¼;

Sec. 9, W½NW¼;

Sec. 10, E½;

Sec. 11, N½NW¼ and W½SW¼;

Sec. 12, W½NE¼ and NW¼;

Sec. 13, SW¼NE¼, SE¼SW¼, NW¼SE¼, E½W½SW¼SE¼, and E½SW¼SE¼;

Sec. 14, NE¼, NW¼SE¼, and SE¼SE¼;

Sec. 15, E½ and E½SW¼;

Sec. 23;

Sec. 24, E½NE¼, NW¼NE¼, N½NW¼, and W½SW¼;

Sec. 25, S½N½ and NW¼NW¼;

Sec. 26, NE¼.

T. 18 S., R. 51 E.,

Sec. 5, lot 1;

Sec. 6, lots 2 to 6, inclusive, SW¼NE¼, SE¼NW¼, NE¼SW¼, and SE¼;

Sec. 7, NE¼ and E½NW¼;

Sec. 8, NW¼;

Sec. 18, lots 2 to 4, inclusive, SW¼NE¼, SE¼NW¼, and E½SW¼;

Sec. 19, lots 1 and 2, E½NE¼, NW¼NE¼, SW¼NE¼, E½NW¼, E½SW¼, and SE¼;

Sec. 20, W½E½ and W½;

Sec. 29, W½NE¼ and NW¼;

Sec. 30, lot 2, NE¼ (excluding Patent #27-70-0091), and E½NW¼.

The areas described aggregate 9,460.66 acres, more or less, in Nye County.

(b) Reserved Federal Minerals

T. 17 S., R. 50 E.,

Sec. 10, lots 9, 10, 11, 13, and 14;

Sec. 16, NW¼NW¼;

Sec. 20, NE¼;

Sec. 21, lots 1 to 4, inclusive;

Sec. 28, SW¼SW¼, E½SW¼, and SE¼;

Sec. 29, NW¼NE¼, SW¼SW¼, and E½SE¼;

Sec. 33, W½NW¼, N½NE¼, and SW¼NE¼;

Sec. 34, W½ and SE¼.

T. 18 S., R. 50 E.,

Sec. 2, lots 3 and 4, S½NW¼, and SW¼;

Sec. 3, lots 1, 2, 3, and SE¼;

Sec. 4, lot 3, S½NW¼, SW¼, and W½SE¼;

Sec. 9, E½NW¼ and W½E½;

Sec. 10, NW¼ and NE¼SW¼;

Sec. 11, N½NE¼, SE¼SW¼, and SW¼SE¼;

Sec. 12, E½NE¼.

T. 17 S., R. 51 E.,

Sec. 31, SE¼NE¼ and E½SE¼;

Sec. 32, SW¼.

T. 18 S., R. 51 E.,

Sec. 5, lots 2, 3, 4, S½N½, and S½;

Sec. 6, lots 1 and 7, SE¼NE¼, and SE¼SW¼;

Sec. 7, lots 1 and 2;

Sec. 8, E½ and SW¼;

Sec. 17, W½E½ and W½;

Sec. 18, SE¼NE¼ and SE¼;

Sec. 30, Patent #27-70-0091(within NE¼).

The areas described aggregate 5,570.02 acres, more or less, in Nye County.

2. This withdrawal will expire 20 years from the effective date of this order unless, as a result of a review conducted before the expiration date pursuant to Section 204(f) of the Federal Land Policy and Management Act of 1976, 43 U.S.C. 1714(f), the Secretary determines that the withdrawal shall be extended.

Dated: November 24, 2010.
Wilma A. Lewis,
Assistant Secretary—Land and Minerals Management.

[FR Doc. 2010-31209 Filed 12-10-10; 8:45 am]

BILLING CODE 4310-HC-P